FEDERAL DEPOSIT INSURANCE CORPORATION

[OMB No. 3064-NEW]

Agency Information Collection Activities: Proposed New Information Collection; Survey of the Costs of AML/CFT Compliance; Comment Request

AGENCY: Federal Deposit Insurance Corporation.

ACTION: Notice and request for comment.

SUMMARY: The Federal Deposit Insurance Corporation (FDIC), as part of its obligations under the Paperwork Reduction Act of 1995 (PRA), invites the general public and other Federal agencies to take this opportunity to comment on a proposed information collection, a Survey of the Costs of Anti-Money Laundering (AML) and Countering the Financing of Terrorism (CFT) Compliance. The instrument for the information collection is a survey. The survey seeks to gather information on the direct compliance costs incurred by FDIC-supervised insured depository institutions and, to the extent these expenses overlap with those of other activities (such as fraud and credit card monitoring), the amount attributable to AML/CFT compliance. The FDIC is seeking a new OMB Control Number for this information collection. The FDIC expects to submit this information collection as a common form so that the Federal banking regulators and the National Credit Union Association may use the information collection to survey the entirety of the banking and credit union industry. On September 12, 2025, the FDIC requested public comment for 60 days on the proposed information collection. The comment period for the September notice expired on November 12, 2025. As described in the SUPPLEMENTARY INFORMATION section of this document, the FDIC will proceed with the information collection as proposed.

DATES: Comments must be submitted on or before February 9, 2026.

ADDRESSES: Interested parties are invited to submit written comments to the FDIC by any of the following methods:

• Agency Website: https://www.fdic.gov/federal-register-publications.

• Email: comments@fdic.gov. Include the name and number of the collection in the subject line of the message.

• Mail: Robert Meiers (571) 761-3062, Senior Attorney, MB-3013, Federal Deposit Insurance Corporation, 550 17th Street NW, Washington, DC 20429.

• Hand Delivery: Comments may be hand delivered to the guard station at the rear of the 17th Street Building (located on F Street), on business days between 7 a.m. and 5 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Robert Meiers, Attorney, (571) 761-3062, romeiers@fdic.gov, MB-3013, Federal Deposit Insurance Corporation, 550 17th Street NW, Washington, DC 20429.

SUPPLEMENTARY INFORMATION: In response to the 60-day notice, the FDIC received two relevant comments, one from industry associations and one from an FDIC-supervised institution. Both comments were supportive of the FDIC's effort to use the information from the survey to inform and support rulemakings that reduce compliance burden without compromising the effectiveness of current AML/CFT frameworks.

Both comments also offered suggestions to improve the survey. Both comments requested that the FDIC amend the survey questions to be more specific and granular, and clearly define cost categories, suggesting, for example, that the survey should break out different categories of Suspicious Activity Reports (SARS) (such as structuring). Both commenters also recommended that the survey allow respondents to report data for multiple years rather than limiting responses to a single year to account for highly variable AML/CFT compliance costs.

One commenter raised concerns about the confidentiality of responses and sought explicit assurances that the responses will be treated as Confidential Supervisory Information and exempt from disclosure under the Freedom of Information Act. The commenter also requested that the responses be kept anonymized.

The FDIC appreciates the suggestions to change the survey to include more specific questions and seek more granular information. However, after careful consideration, the FDIC has concluded that for this survey the broader categories and questions better support the survey's purpose of producing consistent and comparable information on institutions' AML/CFT compliance cost. More detailed questions and categories could also increase the cost and time of responding to the survey and reduce comparability. The FDIC may consider additional surveys to focus more specifically on certain categories of AML/CFT compliance, such as SARS. However, for this survey, the FDIC concludes that the questions, as proposed, successfully balance its desire for easily comparable information with the costs of response and the value of more granular information.

Similarly, the FDIC recognizes AML/CFT costs can be highly variable and that a single year may not sufficiently capture the breadth and depth of compliance costs for a specific institution. However, the FDIC believes that the expected high number of responses across institutions will mitigate the issue of highly variable costs without further burdening respondents.

Regarding confidentiality of survey responses, survey responses are confidential supervisory information and protected from disclosure. To support interagency efforts to reduce burden associated with AML/CFT compliance, the FDIC intends to share response data with other agencies only in anonymized and aggregated form.

The FDIC is requesting OMB approval for the following collection of information:

Title: Cost of AML/CFT Compliance Survey.

OMB Number: 3064-NEW.

Frequency of Response: Once.

Affected Public: FDIC-supervised banks and savings associations.

Estimated Annual Burden: The FDIC estimates a total burden for OMB No. 3064-NEW of 12,211 hours. The FDIC expects 1,928 respondents for the survey and each respondent will take 6 hours and 20 minutes to complete the survey.

General Description of Collection:

This information collection will seek information on AML/CFT compliance costs and related topics via survey. The survey is voluntary. The purpose of the survey is to better understand the cost of AML/CFT compliance for FDIC-supervised insured depository institutions. The information gathered will help assess the cumulative impact of AML/CFT regulations and may inform efforts to adjust regulatory obligations in accordance with safety and soundness principles and advance deregulatory proposals consistent with the executive orders of the Trump Administration. The data may also support the development of deregulatory rulemakings or guidance to reduce compliance burden without compromising the effectiveness of current AML/CFT frameworks. Responses will not be used for examination or enforcement and will be kept confidential.

Interested members of the public may obtain a copy of the proposed survey questionnaire on the following web page: https://www.fdic.gov/federal-register-publications/survey-costs-amlcft-compliance.

Request for Comment

Comments are invited on (a) whether the collection of information is necessary for the proper performance of the FDIC's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on January 5, 2026.
Jennifer M. Jones,
Deputy Executive Secretary.

[FR Doc. 2026-00105 Filed 1-7-26; 8:45 am]

BILLING CODE 6714-01-P